FEDERAL RESERVE SYSTEM

Formations of, Acquisitions by, and Mergers of Bank Holding Companies; Correction

This notice corrects a notice (FR Doc. E8-6162) published on page 16015 of the issue for Wednesday, March 26, 2008.

Under the Federal Reserve Bank of San Francisco heading, the entry for Wells Fargo & Company, San Francisco, California, is revised to read as follows:

A. Federal Reserve Bank of San Francisco (Tracy Basinger, Director, Regional and Community Bank Group) 101 Market Street, San Francisco, California 94105-1579:

1. Wells Fargo & Company, San Francisco, California; to acquire 100 percent of the voting shares of The Jackson State Bank & Trust, Jackson, Wyoming; Shoshone First Bank, Cody, Wyoming; Sheridan State Bank, Sheridan, Wyoming; and First State Bank of Pinedale, Pinedale, Wyoming, and to acquire certain assets and assume certain liabilities of United Bancorporation of Wyoming, Inc., Jackson, Wyoming.

Comments on this application must be received by April 21, 2008.

Board of Governors of the Federal Reserve System, April 2, 2008.
Robert deV. Frierson,
Deputy Secretary of the Board.

[FR Doc. E8-7185 Filed 4-4-08 8:45 am]

BILLING CODE 6210-01-S